DEPARTMENT OF ENERGY

Federal Energy Regulatory Commission

Combined Notice of Filings #1

Take notice that the Commission received the following exempt wholesale generator filings:

Docket Numbers: EG23-271-000.

Applicants: Arche Energy Project, LLC.

Description: Arche Energy Project, LLC submits Notice of Self-Certification of Exempt Wholesale Generator Status.

Filed Date: 8/31/23.

Accession Number: 20230831-5040.

Comment Date: 5 p.m. ET 9/21/23.

Docket Numbers: EG23-272-000.

Applicants: El Sol Energy Storage LLC.

Description: El Sol Energy Storage LLC submits Notice of Self-Certification of Exempt Wholesale Generator Status.

Filed Date: 8/31/23.

Accession Number: 20230831-5177.

Comment Date: 5 p.m. ET 9/21/23.

Take notice that the Commission received the following electric rate filings:

Docket Numbers: ER23-1361-002.

Applicants: Southwest Power Pool, Inc.

Description: Compliance filing: Compliance Filing in Response to August 3 Order in ER23-1361 to be effective 5/15/2023.

Filed Date: 8/31/23.

Accession Number: 20230831-5157.

Comment Date: 5 p.m. ET 9/21/23.

Docket Numbers: ER23-2252-001.

Applicants: Southwest Power Pool, Inc.

Description: Tariff Amendment: 1266R14 Kansas Municipal Energy Agency NITSA and NOA to be effective 9/1/2023.

Filed Date: 8/31/23.

Accession Number: 20230831-5084.

Comment Date: 5 p.m. ET 9/21/23.

Docket Numbers: ER23-2280-001.

Applicants: Southwest Power Pool, Inc.

Description: Tariff Amendment: 1875R6 Kansas Electric Power Cooperative, Inc. NITSA and NOA to be effective 9/1/2023.

Filed Date: 8/31/23.

Accession Number: 20230831-5093.

Comment Date: 5 p.m. ET 9/21/23.

Docket Numbers: ER23-2734-000.

Applicants: Puget Sound Energy, Inc.

Description: § 205(d) Rate Filing: Engineering and Construction Agreement between BP Products and PSE to be effective 6/1/2022.

Filed Date: 8/30/23.

Accession Number: 20230830-5146.

Comment Date: 5 p.m. ET 9/20/23.

Docket Numbers: ER23-2735-000.

Applicants: Southwest Power Pool, Inc.

Description: § 205(d) Rate Filing: 4115 Steeple Wind Energy GIA to be effective 8/1/2023.

Filed Date: 8/31/23.

Accession Number: 20230831-5001.

Comment Date: 5 p.m. ET 9/21/23.

Docket Numbers: ER23-2736-000.

Applicants: Southwest Power Pool, Inc.

Description: § 205(d) Rate Filing: 4116 Big Blue Nebraska Wind GIA to be effective 8/1/2023.

Filed Date: 8/31/23.

Accession Number: 20230831-5002.

Comment Date: 5 p.m. ET 9/21/23.

Docket Numbers: ER23-2737-000.

Applicants: Southwest Power Pool, Inc.

Description: § 205(d) Rate Filing: 4117 Blue Prairie Wind GIA to be effective 8/1/2023.

Filed Date: 8/31/23.

Accession Number: 20230831-5003.

Comment Date: 5 p.m. ET 9/21/23.

Docket Numbers: ER23-2738-000.

Applicants: Southwest Power Pool, Inc.

Description: § 205(d) Rate Filing: 4118 K Junction Solar GIA to be effective 8/1/2023.

Filed Date: 8/31/23.

Accession Number: 20230831-5004.

Comment Date: 5 p.m. ET 9/21/23.

Docket Numbers: ER23-2739-000.

Applicants: Southwest Power Pool, Inc.

Description: § 205(d) Rate Filing: 4119 Greeley Wind Nebraska GIA to be effective 8/1/2023.

Filed Date: 8/31/23.

Accession Number: 20230831-5005.

Comment Date: 5 p.m. ET 9/21/23.

Docket Numbers: ER23-2740-000.

Applicants: Arche Energy Project, LLC.

Description: Baseline eTariff Filing: Application for Market-Based Rate Authorization to be effective 9/20/2023.

Filed Date: 8/31/23.

Accession Number: 20230831-5006.

Comment Date: 5 p.m. ET 9/21/23.

Docket Numbers: ER23-2741-000.

Applicants: Clearwater Energy Resources LLC.

Description: § 205(d) Rate Filing: Transmission Services Agreement with Clearwater East to be effective 9/1/2023.

Filed Date: 8/31/23.

Accession Number: 20230831-5022.

Comment Date: 5 p.m. ET 9/21/23.

Docket Numbers: ER23-2742-000.

Applicants: Midcontinent Independent System Operator, Inc.

Description: § 205(d) Rate Filing: 2023-08-31_Attachment X IC Deposits for D1 D2 to be effective 10/31/2023.

Filed Date: 8/31/23.

Accession Number: 20230831-5117.

Comment Date: 5 p.m. ET 9/21/23.

Docket Numbers: ER23-2743-000.

Applicants: Alabama Power Company, Georgia Power Company, Mississippi Power Company.

Description: Tariff Amendment: Alabama Power Company submits tariff filing per 35.15: Silver Arrow LGIA Termination Filing to be effective 8/31/2023.

Filed Date: 8/31/23.

Accession Number: 20230831-5120.

Comment Date: 5 p.m. ET 9/21/23.

Docket Numbers: ER23-2744-000.

Applicants: The Potomac Edison Company, PJM Interconnection, L.L.C.

Description: § 205(d) Rate Filing: The Potomac Edison Company submits tariff filing per 35.13(a)(2)(iii: The Potomac Edison Co.'s Request for Order Authorizing Abandoned Plant Incentive to be effective 10/31/2023.

Filed Date: 8/31/23.

Accession Number: 20230831-5122.

Comment Date: 5 p.m. ET 9/21/23.

Docket Numbers: ER23-2745-000.

Applicants: Tucson Electric Power Company.

Description: § 205(d) Rate Filing: Depreciation Rate Update to be effective 9/1/2023.

Filed Date: 8/31/23.

Accession Number: 20230831-5144.

Comment Date: 5 p.m. ET 9/21/23.

Docket Numbers: ER23-2746-000.

Applicants: El Sol Storage LLC.

Description: Baseline eTariff Filing: Application for Market-Based Rate Authorization to be effective 10/31/2023.

Filed Date: 8/31/23.

Accession Number: 20230831-5154.

Comment Date: 5 p.m. ET 9/21/23.

Docket Numbers: ER23-2747-000.

Applicants: SCEF1 Fuel Cell, LLC.

Description: Baseline eTariff Filing: Baseline new to be effective 10/31/2023.

Filed Date: 8/31/23.

Accession Number: 20230831-5162.

Comment Date: 5 p.m. ET 9/21/23.

Docket Numbers: ER23-2748-000.

Applicants: Southwest Power Pool, Inc.

Description: § 205(d) Rate Filing: 1628R24 Western Farmers Electric Cooperative NITSA NOAs to be effective 8/1/2023.

Filed Date: 8/31/23.

Accession Number: 20230831-5172.

Comment Date: 5 p.m. ET 9/21/23.

Docket Numbers: ER23-2749-000.

Applicants: AEUG Union Solar, LLC.

Description: Baseline eTariff Filing: AEUG Union Solar, LLC Market-Based Rate Tariff to be effective 11/1/2023.

Filed Date: 8/31/23.

Accession Number: 20230831-5176.

Comment Date: 5 p.m. ET 9/21/23.

Docket Numbers: ER23-2750-000.

Applicants: HORIZON HILL WIND, LLC.

Description: Baseline eTariff Filing: Application for Market-Based Rate Authorization, Request for Related Waivers to be effective 10/31/2023.

Filed Date: 8/31/23.

Accession Number: 20230831-5212.

Comment Date: 5 p.m. ET 9/21/23.

Docket Numbers: ER23-2751-000.

Applicants: WHITE ROCK WIND EAST, LLC.

Description: Baseline eTariff Filing: Application for Market-Based Rate Authorization, Request for Related Waivers to be effective 10/31/2023.

Filed Date: 8/31/23.

Accession Number: 20230831-5218.

Comment Date: 5 p.m. ET 9/21/23.

Docket Numbers: ER23-2752-000.

Applicants: WHITE ROCK WIND WEST, LLC.

Description: Baseline eTariff Filing: Application for Market-Based Rate Authorization, Request for Related Waivers to be effective 10/20/2023.

Filed Date: 8/31/23.

Accession Number: 20230831-5219.

Comment Date: 5 p.m. ET 9/21/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 31, 2023..
Debbie-Anne A. Reese,
Deputy Secretary.

[FR Doc. 2023-19302 Filed 9-6-23; 8:45 am]

BILLING CODE 6717-01-P